DEPARTMENT OF COMMERCE

International Trade Administration

[A-533-843]

Certain Lined Paper Products From India: Preliminary Results of Antidumping Duty Administrative Review; Rescission of Administrative Review, in Part; and Preliminary Determination of No Shipments; 2019-2020

AGENCY: Enforcement and Compliance, International Trade Administration, Department of Commerce.

SUMMARY: The Department of Commerce (Commerce) is conducting an administrative review of the antidumping duty order on certain lined paper products from India, covering the period of review (POR), September 1, 2019, through August 31, 2020. We preliminarily find that Navneet Education Ltd. (Navneet) made sales of subject merchandise at less than normal value during the POR. We invite interested parties to comment on these preliminary results.

DATES: Applicable October 1, 2021.

FOR FURTHER INFORMATION CONTACT: Samuel Brummitt, AD/CVD Operations, Office III, Enforcement and Compliance, International Trade Administration, U.S. Department of Commerce, 1401 Constitution Avenue NW, Washington DC 20230; telephone: (202) 482-7851.

SUPPLEMENTARY INFORMATION:

Background

On September 28, 2006, Commerce published the Order in the Federal Register.¹ On October 30, 2020, pursuant to section 751(a)(1) of the Tariff Act of 1930, as amended (the Act), Commerce initiated an administrative review of the Order.² On May 24, 2021, we extended the deadline for the preliminary results to September 30, 2021.³

¹ See Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (Order).

² See Initiation of Antidumping and Countervailing Duty Administrative Reviews, 85 FR 68840 (October 30, 2020) (Initiation Notice).

³ See Memorandum, “Extension of Deadline for Preliminary Results of Antidumping Duty Administrative Review; 2019-2020,” dated May 24, 2021.

Commerce initiated this administrative review covering the following seventeen companies: Cellpage Ventures Private Limited (Cellpage); Goldenpalm Manufacturers PVT Limited (Goldenpalm); ITC Limited—Education and Stationery Products Business (ITC Limited); M/s. Bhaskar Paper Products (Bhaskar); Dinakar Process Private Limited (Dinakar); JC Stationery (P) Ltd. (JC Stationery); Kokuyo Riddhi Paper Products Pvt. Ltd. (Kokuyo); Lodha Offset Limited (Lodha); Lotus Global Private Limited (Lotus Global); Magic International Pvt. Ltd. (Magic); Marisa International (Marisa); Navneet; Pioneer Stationery Pvt. Ltd. (Pioneer); PP Bafna Ventures Private Limited (PP Bafna); SAB International (SAB); SGM Paper Products (SGM); and Super Impex.⁴ On January 19, 2021, Pioneer, PP Bafna, SAB, SGM, and Super Impex timely withdrew their requests for review.⁵ On January 20, 2021, Cellpage, Lotus Global, and Kokuyo timely withdrew their requests for review.⁶ On January 28, 2021, ITC Limited, Bhaskar, Dinakar, and JC Stationery timely withdrew their requests for review.⁷ As detailed below, we are rescinding the review, in part, with respect to ten of the above companies. This review covers one mandatory respondent, Navneet. The other six companies were not selected for individual examination and remain subject to this administrative review.

⁴ Initiation Notice, 85 FR at 68842.

⁵ See Pioneer's Letter, “Withdrawal of Request for Antidumping Duty Administrative Review of Pioneer,” dated January 19, 2021 (Pioneer's Withdrawal of Request for Review); PP Bafna's Letter, “Withdrawal of Request for Antidumping Duty Administrative Review of PP Bafna,” dated January 19, 2021 (PP Bafna's Withdrawal of Request for Review); SAB's Letter, “Withdrawal of Request for Antidumping Duty Administrative Review of SAB International,” dated January 19, 2021 (SAB's Withdrawal of Request for Review); SGM's Letter, “Withdrawal of Request for Antidumping Duty Administrative Review of SGM Paper Products,” dated January 19, 2021 (SGM's Withdrawal of Request for Review); and Super Impex's Letter, “Withdrawal of Request for Antidumping Duty Administrative Review of Super Impex,” dated January 19, 2021 (Super Impex's Withdrawal of Request for Review).

⁶ See Cellpage's Letter, “Withdrawal of Request for Antidumping Duty Administrative Review of Cellpage Ventures Private Limited,” dated January 20, 2021 (Cellpage's Withdrawal of Request for Review); Lotus Global's Letter, “Withdrawal of Request for Antidumping Duty Administrative Review of Lotus Global Private Limited,” dated January 20, 2021 (Lotus Global's Withdrawal of Request for Review); and Kokuyo's Letter, “Withdrawal of Request for Anti-dumping Duty Administrative Review of Kokuyo Riddhi Paper Products Private Limited,” dated January 20, 2021 (Kokuyo's Withdrawal of Request for Review).

⁷ See ITC Limited, Bhaskar, Dinakar, and JC Stationery's Letter, “Withdrawal of Request for Administrative Review,” dated January 28, 2021 (ITC Limited, Bhaskar, Dinakar, and JC Stationery's Withdrawal of Request for Review).

Scope of the Order

The merchandise covered by the Order is certain lined paper products. The merchandise subject to this order is currently classified under the following Harmonized Tariff Schedule of the United States (HTSUS) subheadings: 4811.90.9035, 4811.90.9080, 4820.30.0040, 4810.22.5044, 4811.90.9050, 4811.90.9090, 4820.10.2010, 4820.10.2020, 4820.10.2030, 4820.10.2040, 4820.10.2050, 4820.10.2060, and 4820.10.4000. Although the HTSUS numbers are provided for convenience and customs purposes, the written product description remains dispositive. A full description of the scope of the Order is contained in the Preliminary Decision Memorandum.⁸

⁸ See Memorandum, “Decision Memorandum for the Preliminary Results of Antidumping Duty Administrative Review: Certain Lined Paper Products from India; 2018-2019,” dated concurrently and hereby adopted by this notice (Preliminary Decision Memorandum).

Partial Rescission of Review

Pursuant to 19 CFR 351.213(d)(1), Commerce will rescind an administrative review, in whole or in part, if a party who requested the review withdraws the request within 90 days of the date of publication of notice of initiation of the requested review. As noted above, on January 19, 2021, Pioneer, PP Bafna, SAB, SGM, and Super Impex timely withdrew their requests for review.⁹ On January 20, 2021, Cellpage, Lotus Global, and Kokuyo timely withdrew their requests for review.¹⁰ On January 28, 2021, ITC Limited, Bhaskar, Dinakar, and JC Stationery timely withdrew their requests for review.¹¹ Because there is still an active review request for Pioneer and SGM, we are not rescinding the review with respect to these companies.¹² However, because there was a timely withdrawal of requests for review and because there are no other active requests for review, we are rescinding this review with respect to the following companies, pursuant to 19 CFR 351.213(d)(1): Bhaskar, Cellpage, Dinakar, ITC Limited, JC Stationery, Kokuyo, Lotus Global, PP Bafna, SAB, and Super Impex.

⁹ See Pioneer's Withdrawal of Request for Review; PP Bafna's Withdrawal of Request for Review; SAB's Withdrawal of Request for Review; SGM's Withdrawal of Request for Review; and Super Impex's Withdrawal of Request for Review.

¹⁰ See Cellpage's Withdrawal of Request for Review; Lotus Global's Withdrawal of Request for Review; and Kokuyo's Withdrawal of Request for Review.

¹¹ See ITC Limited, Bhaskar, Dinakar, and JC Stationery's Withdrawal of Request for Review.

¹² See Petitioners' Letter, “Request for Administrative Review,” dated September 30, 2020.

Preliminary Determination of No Shipments

On November 23, 2020, Goldenpalm submitted a no-shipment certification.¹³ To confirm Goldenpalm's no-shipment claim, on January 28, 2021, Commerce issued a no-shipment inquiry to U.S. Customs and Border Protection (CBP).¹⁴ CBP reported that it had no information to contradict Goldenpalm's no shipments claim during the POR.¹⁵

¹³ See Goldenpalm's Letter, “Response to Q & V Questionnaire,” dated November 23, 2020.

¹⁴ See Memorandum, “No Shipment Inquiry,” dated January 28, 2021.

¹⁵ See Memorandum, “No shipment inquiry with respect to the company below during the period 09/01/2019 through 08/30/2020” dated March 12, 2021.

Given that Goldenpalm reported that it made no shipments of subject merchandise to the United States during the POR, and there is no information calling Goldenpalm's claim into question, we preliminarily determine that Goldenpalm did not have any reviewable transactions during the POR. Consistent with Commerce's practice, we will not rescind the review with respect to Goldenpalm but, rather, will complete the review and issue instructions to CBP based on the final results.¹⁶

¹⁶ Commerce determined to not rescind a review with respect to exporters that demonstrate that they had no knowledge of sales through resellers to the United States because we find it appropriate to instruct CBP to liquidate such entries at the all-others rate applicable to the proceeding. Further, Commerce explained that it is more consistent with the Automatic Assessment Clarification not to rescind a review in part under these circumstances but rather to complete the review and issue appropriate instructions to CBP based on the final results of the review. See, e.g., Certain Frozen Warmwater Shrimp from Thailand; Preliminary Results of Antidumping Duty Administrative Review, Partial Rescission of Review, Preliminary Determination of No Shipments; 2012-2013, 79 FR 15951, 15952 (March 24, 2014), unchanged in Certain Frozen Warmwater Shrimp from Thailand: Final Results of Antidumping Duty Administrative Review, Final Determination of No Shipments, and Partial Rescission of Review; 2012-2013, 79 FR 51306, 51307 (August 28, 2014) at 6-7 (citing Antidumping and Countervailing Duty Proceedings: Assessment of Antidumping Duties, 68 FR 23954 (May 6, 2003) (Automatic Assessment Clarification)).

Methodology

Commerce is conducting this review in accordance with section 751(a)(2) of the Act. Export price is calculated in accordance with section 772 of the Act. Normal value is calculated in accordance with section 773 of the Act. For a full description of the methodology underlying our preliminary results, see the Preliminary Decision Memorandum. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at http://enforcement.trade.gov/frn/. A list of the topics discussed in the Preliminary Decision Memorandum is attached as an appendix to this notice.

Adverse Facts Available

Sections 776(a)(1) and 776(a)(2) of the Act provide that Commerce shall, subject to section 782(d) of the Act, apply “facts otherwise available” if necessary information is not available on the record or if any other person: (A) Withholds information requested by Commerce; (B) fails to provide such information by the deadlines for submission of the information, or in the form and manner requested, subject to subsections (c)(1) and (e) of section 782 of the Act; (C) significantly impedes a proceeding; or (D) provides such information but the information cannot be verified as provided in section 782(i) of the Act. Pursuant to sections 776(a) and (b) of the Act, Commerce has preliminarily relied upon facts otherwise available with adverse inferences to determine the estimated weighted-average dumping margin for Magic International Pvt. Ltd. and Marisa International because they did not submit timely responses to Commerce's quantity and value questionnaire. We are preliminarily assigning to Magic International Pvt. Ltd. and Marisa International, as adverse facts available, the highest rate from the petition, which we have corroborated under section 776(c)(2) of the Act using the highest individual transaction-specific margin calculated for Navneet. For a complete explanation of the analysis underlying the application of AFA, see the Preliminary Decision Memorandum.

Rate for Non-Selected Respondents

The statute and Commerce's regulations do not address the establishment of a rate to be applied to companies not selected for individual examination when Commerce limits its examination in an administrative review pursuant to section 777A(c)(2) of the Act. Generally, Commerce looks to section 735(c)(5) of the Act, which provides instructions for calculating the all-others rate in a market economy investigation, for guidance when calculating the rate for companies which were not selected for individual examination in an administrative review. Under section 735(c)(5)(A) of the Act, the all-others rate is normally “an amount equal to the weighted-average of the estimated weighted-average dumping margins established for exporters and producers individually investigated, excluding any zero or de minimis margins, and any margins determined entirely {on the basis of facts available}.”

In this segment of the proceeding, we calculated a margin for Navneet that was not zero, de minimis, or based on facts available. Accordingly, we have preliminarily applied the margin calculated for Navneet to the non-individually examined respondents.

Preliminary Results of the Review

As a result of this review, we preliminarily find the following weighted-average dumping margins for the period September 1, 2019 through August 31, 2020.

Producer/exporter | Weighted- average dumping margin (percent)
Navneet Education Ltd | 18.35
Lodha Offset Limited | 18.35
Pioneer Stationery Pvt. Ltd | 18.35
SGM Paper Products | 18.35
Magic International Pvt. Ltd | 215.93
Marisa International | 215.93

Assessment Rates

Upon issuance of the final results, Commerce shall determine, and CBP shall assess, antidumping duties on all appropriate entries covered by this review. If a respondent's weighted-average dumping margin is not zero or de minimis (i.e., less than 0.5 percent) in the final results of this review, we will calculate importer-specific ad valorem antidumping duty assessment rates based on the ratio of the total amount of dumping calculated for an importer's examined sales and the total entered value of such sales in accordance with 19 CFR 351.212(b)(1). Where either the respondent's weighted-average dumping margin is zero or de minimis within the meaning of 19 CFR 351.106(c), or an importer-specific rate is zero or de minimis, we will instruct CBP to liquidate the appropriate entries without regard to antidumping duties.

Pursuant to Commerce's Automatic Assessment Clarification, for entries of subject merchandise during the POR produced by a respondent for which it did not know its merchandise was destined for the United States, Commerce will instruct CBP to liquidate unreviewed entries at the all-others rate if there is no rate for the intermediate company(ies) involved in the transaction.¹⁷

¹⁷ See Automatic Assessment Clarification.

We intend to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the notice of final results of administrative review for all shipments of subject merchandise entered, or withdrawn from warehouse, for consumption on or after the publication date of the final results of this administrative review, as provided by section 751(a)(2)(C) of the Act: (1) The cash deposit rate for respondent noted above will be the rates established in the final results of this administrative review; (2) for merchandise exported by producers or exporters not covered in this administrative review but covered in a prior segment of the proceeding, the cash deposit rate will continue to be the company-specific rate published for the most recently completed segment of this proceeding; (3) if the exporter is not a firm covered in this review, a prior review, or the original investigation, but the producer is, then the cash deposit rate will be the rate established for the most recently completed segment of this proceeding for the producer of the subject merchandise; and (4) the cash deposit rate for all other producers or exporters will continue to be 3.91 percent, the all-others rate established in the investigation.¹⁸ These cash deposit requirements, when imposed, shall remain in effect until further notice.

¹⁸ See Order, 71 FR 56952.

Disclosure and Public Comment

We will disclose to parties to the proceeding any calculations performed in connection with these preliminary results of review within five days after the date of publication of this notice.¹⁹ Interested parties may submit case briefs not later than 30 days after the date of publication of this notice in the Federal Register.²⁰ Rebuttal briefs, limited to issues raised in the case briefs, may be filed no later than seven days after the date for filing case briefs.²¹ Parties who submit case briefs or rebuttal briefs in this proceeding are encouraged to submit with each argument: (1) A statement of the issue; (2) a brief summary of the argument; and (3) a table of authorities.²² All briefs must be filed electronically using ACCESS. An electronically filed document must be received successfully in its entirety by the established deadline.

¹⁹ See 19 CFR 351.224(b).

²⁰ See 19 CFR 351.309(c)(1)(ii).

²¹ See 19 CFR 351.309(d)(1); see also Temporary Rule Modifying AD/CVD Service Requirements Due to COVID-19; Extension of Effective Period, 85 FR 41363 (July 10, 2020) (Temporary Rule).

²² See 19 CFR 351.309(c)(2) and (d)(2) and 19 CFR 351.303 (for general filing requirements).

Interested parties who wish to request a hearing, limited to issues raised in the case and rebuttal briefs, must submit a written request to the Assistant Secretary for Enforcement and Compliance, within 30 days after the date of publication of this notice.²³ Requests should contain: (1) The party's name, address, and telephone number; (2) the number of participants; and (3) a list of issues to be discussed. Issues raised in the hearing will be limited to those raised in the respective case and rebuttal briefs. If a request for a hearing is made, Commerce intends to hold the hearing at a time and date to be determined. Parties should confirm by telephone the date, time, and location of the hearing two days before the scheduled date.

²³ See 19 CFR 351.310(c).

We intend to issue the final results of this administrative review, including the results of our analysis of the issues raised in any written briefs, not later than 120 days after the date of publication of this notice, pursuant to section 751(a)(3)(A) of the Act.

Notification to Importers

This notice serves as a preliminary reminder to importers of their responsibility under 19 CFR 351.402(f)(2) to file a certificate regarding the reimbursement of antidumping duties and/or countervailing duties prior to liquidation of the relevant entries during this review period. Failure to comply with this requirement could result in the presumption that reimbursement of antidumping and/or countervailing duties occurred and the subsequent assessment of double antidumping duties.

Notification to Interested Parties

We are issuing and publishing these results in accordance with sections 751(a)(1) and 777(i)(1) of the Act, and 19 CFR 351.213(h)(1).

Dated: September 27, 2021.
Christian Marsh,
Acting Assistant Secretary for Enforcement and Compliance.

Appendix

List of Topics Discussed in the Preliminary Decision Memorandum

I. Summary

II. Background

III. Scope of the Order

IV. Partial Rescission of Administrative Review

V. Preliminary Determination of No Shipments

VI. Companies Not Selected for Individual Examination

VII. Application of Facts Available and Adverse Inference

VIII. Discussion of the Methodology

IX. Currency Conversion

X. Recommendation

[FR Doc. 2021-21404 Filed 9-30-21; 8:45 am]

BILLING CODE 3510-DS-P